DEPARTMENT OF COMMERCE

International Trade Administration

[A-560-817]

Notice of Postponement of Final Antidumping Duty Determination: Bottle-Grade Polyethylene Terephthalate (PET) Resin from Indonesia

AGENCY: Import Administration, International Trade Administration, Department of Commerce.

SUMMARY: The Department of Commerce is postponing the final determination in the antidumping duty investigation on PET Resin from Indonesia from January 3, 2005, until no later than 135 days after publication of the preliminary determination in this investigation. This extension is made pursuant to section 735(a)(2) of the Tariff Act of 1930, as amended, by the Uruguay Round Agreements Act.

EFFECTIVE DATE: November 3, 2004.

FOR FURTHER INFORMATION CONTACT: Scott Holland at (202) 482-1279 or Andrew McAllister at (202) 482-1174, Import Administration, International Trade Administration, U.S. Department of Commerce, 14th Street and Constitution Avenue, NW, Washington, DC 20230.

Postponement of Final Determination

On October 20, 2004, the Department of Commerce (“the Department”) issued its affirmative preliminary determination in the antidumping duty investigation of Bottle-Grade Polyethylene Terephthalate (“PET”) Resin (“PET resin”) from Indonesia (publication pending). This notice stated we would issue our final determinations in these investigations within 75 days of the date of the preliminary determination. Section 735(a)(2) of the Tariff Act of 1930, as amended (“the Act”), provides that the Department may postpone a final determination until not later than 135 days after the date of the publication of the preliminary determination if, in the event of an affirmative preliminary determination, a request for such postponement is made by exporters who account for a significant proportion of exports of the subject merchandise, or in the event of a negative preliminary determination, a request for such postponement is made by the petitioner.

The Department's regulations, at 19 CFR 351.210(e)(2), require that requests by respondents for postponement of a final determination be accompanied by a request for extension of provisional measures from a four-month period to not more than six months. Pursuant to section 735(a)(2) of the Act, on October 25, 2004, P.T. Indorama Synthetics Tbk (“Indorama”), a mandatory respondent in the above-mentioned proceeding, requested that, in the event of an affirmative preliminary determination in this investigation, the Department postpone its final determination until not later than 135 days after the date of the publication of the preliminary determination in the Federal Register, and extend the provisional measures to not more than six months. In accordance with 19 CFR 351.210(b), because (1) our preliminary determination is affirmative, (2) the respondent accounts for a significant proportion of exports of the subject merchandise, and (3) no compelling reasons for denial exist, we are granting the respondents' request and are postponing the final determination until no later than 135 days after the publication of this notice in the Federal Register. Suspension of liquidation will be extended accordingly, for not more than six months, i.e., 180 days.

This notice is published pursuant to section 735(a) of the Act.

Dated: October 27, 2004.
James J. Jochum,
Assistant Secretary for Import Administration.

[FR Doc. E4-2998 Filed 11-2-04; 8:45 am]

BILLING CODE 3510-DS-S